DEPARTMENT OF COMMERCE

National Oceanic and Atmospheric Administration

50 CFR Part 648

RIN 0648-XA694

Fisheries of the Northeastern United States; Tilefish Fishery; 2012 Tilefish Fishing Quota Specification

AGENCY: National Marine Fisheries Service (NMFS), National Oceanic and Atmospheric Administration (NOAA), Commerce.

ACTION: Quota specification.

SUMMARY: NMFS announces that the overall annual tilefish quota for the 2012 fishing year will remain the same as it was in fishing year 2011. Regulations governing these fisheries require NMFS to notify the public in the Federal Register of the overall annual quota levels for tilefish if the previous year's quota specifications remain unchanged.

DATES: Effective November 1, 2011, through October 31, 2012.

FOR FURTHER INFORMATION CONTACT: Jason Berthiaume, Fishery Management Specialist, (978) 281-9177; fax (978) 281-9135.

SUPPLEMENTARY INFORMATION: The tilefish regulations at 50 CFR 648.292 specify that, in the absence of a new stock assessment or recommendation from the Tilefish Monitoring Committee, the previous year's tilefish specifications will remain effective for the following fishing year. The most recent tilefish stock assessment was completed in 2009, and the Tilefish Monitoring Committee has not taken any action to change the tilefish quota levels; therefore, the tilefish total allowable landings (TAL) for the 2012 fishing year will remain the same as the fishing year 2011 TAL of 1.995 million lb (904,917 kg). Five percent of the TAL (99,750 lb (45,246 kg)) is allocated to incidental catch, leaving 1,895,250 lb (859,671 kg) to be allocated to Individual Fishing Quota holders.

Classification

This action is authorized by 50 CFR part 648 and is exempt from review under Executive Order 12866.

Authority: 16 U.S.C. 1801 et seq.

Dated: October 4, 2011.
Steven Thur,
Acting Director, Office of Sustainable Fisheries, National Marine Fisheries Service.

[FR Doc. 2011-26202 Filed 10-7-11; 8:45 am]

BILLING CODE 3510-22-P